DEPARTMENT OF THE INTERIOR

Bureau of Land Management

43 CFR Part 4100

[WO-220-1020-24 1A]

RIN 1004-AD42

Grazing Administration—Exclusive of Alaska

AGENCY: Bureau of Land Management, Interior.

ACTION: Final rule; correction.

SUMMARY: This document corrects editorial and typographical errors in a final rule published in the Federal Register on July 12, 2006, regarding the administration of livestock grazing on public lands managed by the Bureau of Land Management (BLM).

EFFECTIVE DATE: August 11, 2006.

FOR FURTHER INFORMATION CONTACT: Ted Hudson, 202-452-5042. Individuals who use a telecommunications device for the deaf (TDD) may contact him through the Federal Information Relay Service at 1-800/877-8339, 24 hours a day, seven days a week.

SUPPLEMENTARY INFORMATION:

Background

The final rule that is the subject of these corrections amended the regulations on grazing administration, exclusive of Alaska, in 43 CFR part 4100.

Need for Correction

As published, the final rule contained editorial, typographical, and printing errors in the preamble, involving cross-references and CFR citations, which may prove to be misleading and need to be corrected.

In rule FR Doc. 06-5788 published on July 12, 2006 (71 FR 39402), make the following corrections.

1. On page 39437, in the third column, correct the second full paragraph by removing the citation “1610.0-5(b)” in the eighth (8th) line, and adding in its place the citation “1601.0-5(b),” and by removing the citation “1610.0-5(c)” in the 14th line, and adding in its place the citation “1601.0-5(c).”

2. On page 39446, in the first column, correct the second full paragraph by removing the citation “1600.0-5” from the third-to-last line, and adding in its place the citation “1601.0-5(i)”.

3. On page 39488, in the third column, correct the heading between the third and fourth paragraphs by removing the citation “4160.37” and adding in its place the citation “4160.3.”

Dated: August 28, 2006.
Johnnie Burton,
Acting Assistant Secretary of the Interior.

[FR Doc. 06-7397 Filed 8-31-06 8:45 am]

BILLING CODE 4310-84-P